DEPARTMENT OF LABOR

Employment and Training Administration

[TA-W-57,700]

Joy Technologies, Inc., DBA Joy Mining Machinery, Mt. Vernon Plant, Mt. Vernon, IL; Notice of Affirmative Determination Regarding Application for Reconsideration

By application of November 3, 2005, a petitioner requested administrative reconsideration of the Department of Labor's Notice of Negative Determination Regarding Eligibility to Apply for Worker Adjustment Assistance, applicable to workers of the subject firm. The Notice of determination was signed on September 15, 2005, and published in the Federal Register on October 31, 2005 (70 FR 62345).

The negative determination was based on no shift of underground mining machinery production abroad and no increased imports of underground mining machinery during the relevant period. Workers produced underground mining machinery and are not separately identifiable by product line.

The Department carefully reviewed the workers' request for reconsideration and has determined that the Department will conduct further investigation based on new information provided by the petitioners.

Conclusion

After careful review of the application, I conclude that the claim is of sufficient weight to justify reconsideration of the Department of Labor's prior decision. The application is, therefore, granted.

Signed at Washington, DC, this 16th day of November 2005.
Elliott S. Kushner,
Certifying Officer, Division of Trade Adjustment Assistance.

[FR Doc. E5-7379 Filed 12-14-05; 8:45 am]

BILLING CODE 4510-30-P